DEPARTMENT OF TRANSPORTATION

Office of the Secretary

Notice of Applications for Certificates of Public Convenience and Necessity and Foreign Air Carrier Permits Filed Under Subpart B (Formerly Subpart Q) During the Week Ending February 12, 2011

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0024.

Date Filed: February 9, 2011.

Due Date for Answers, Conforming Applications, or Motion to Modify Scope: March 2, 2011.

Description: Application of Marceco, Ltd requesting a certificate of public convenience and necessity authorizing interstate charter air transportation.

Docket Number: DOT-OST-2011-0026.

Date Filed: February 9, 2011.

Due Date for Answers, Conforming Applications, or Motion to Modify Scope: March 2, 2011.

Description:

Application of 2106701 Ontario Inc. DBA NovaJet requesting an exemption and a foreign air carrier permit to engage in non-scheduled charter flights in foreign air transportation of persons, property and mail: (1) Between any points in Canada and any points in the United States; (2) between any point or points in the United States and any point or points in a third country or countries, provided that, except with respect to cargo charters, such services constitutes part of a continuous operations, with or without a change of aircraft, that includes service to Canada for the purpose of carrying local traffic between Canada and the United States; and (3) other charter operations.

Renee V. Wright,
Program Manager, Docket Operations, Federal Register Liaison.

[FR Doc. 2011-4116 Filed 2-23-11; 8:45 am]

BILLING CODE 4910-9X-P